DEPARTMENT OF HOMELAND SECURITY

Federal Emergency Management Agency

[Docket ID FEMA-2018-0002; Internal Agency Docket No. FEMA-B-1860]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 11, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1860, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
Jefferson County, Alabama and Incorporated Areas
Project: 12-04-1070S Preliminary Date: April 26, 2018
City of Argo | Argo City Hall, 100 Blackjack Road, Trussville, AL 35173.
City of Bessemer | City Hall, 1700 3rd Avenue North, Bessemer, AL 35020.
City of Birmingham | Department of Planning, Engineering, and Permits, 710 North 20th Street, 5th Floor, Birmingham, AL 35203.
City of Brighton | City Hall, 3700 Main Street, Brighton, AL 35020.
City of Clay | Clay City Hall, 2441 Old Springville Road, Birmingham, AL 35215.
City of Helena | Municipal Building, 816 Highway 52 East, Helena, AL 35080.
City of Homewood | City Hall, 2850 19th Street South, Homewood, AL 35209.
City of Hoover | City Hall, 100 Municipal Lane, Hoover, AL 35216.
City of Irondale | City Hall, 101 20th Street South, Irondale, AL 35210.
City of Leeds | Department of Inspection Services, 1404 9th Street Northeast, Leeds, AL 35094.
City of Lipscomb | Lipscomb City Hall, 5512 Avenue H, Lipscomb, Bessemer, AL 35020.
City of Mountain Brook | City Hall, 56 Church Street, Mountain Brook, AL 35213.
City of Trussville | City Hall, 131 Main Street, Trussville, AL 35173.
City of Vestavia Hills | City Hall, 1032 Montgomery Highway, Vestavia Hills, AL 35216.
Unincorporated Areas of Jefferson County | Jefferson County Land Development Office, 716 Richard Arrington Jr. Boulevard North, Room 260, Birmingham, AL 35203.
Shelby County, Alabama and Incorporated Areas
Project: 12-04-1070S Preliminary Date: April 26, 2018
City of Birmingham | Department of Planning, Engineering, and Permits, 710 North 20th Street, 5th Floor, Birmingham, AL 35203.
City of Helena | Municipal Building, 816 Highway 52 East, Helena, AL 35080.
City of Hoover | City Hall, 100 Municipal Lane, Hoover, AL 35216.
City of Pelham | City Hall, 3162 Pelham Parkway, Pelham, AL 35124.
City of Vestavia Hills | City Hall, 1032 Montgomery Highway, Vestavia Hills, AL 35216.
Town of Indian Springs Village | Town Hall, 2635 Cahaba Valley Road, Indian Springs Village, AL 35124.
Unincorporated Areas of Shelby County | Shelby County Engineer's Office, 506 Highway 70, Columbiana, AL 35051.
St. Clair County, Alabama and Incorporated Areas
Project: 12-04-1070S Preliminary Date: April 26, 2018
City of Leeds | Department of Development Services, 1404 9th Street Northeast, Leeds, AL 35094.
City of Moody | City Hall, 670 Park Avenue, Moody, AL 35004.
City of Trussville | City Hall, 131 Main Street, Trussville, AL 35173.
Unincorporated Areas of St. Clair County | St. Clair County Road Department, 31588 U.S. Highway 231, Ashville, AL 35953.
Metropolitan Government of Louisville and Jefferson County, Kentucky and Incorporated Areas
Project: 10-04-7840S Preliminary Date: February 28, 2018
Metropolitan Government of Louisville and Jefferson County | Louisville/Jefferson County Metropolitan Sewer District, 700 West Liberty Street, Louisville, KY 40203.
Brazoria County, Texas and Incorporated Areas
Project: 16-06-1963S Preliminary Date: June 30, 2017 and June 29, 2018
City of Alvin | Public Services Facility Building Engineering Department, 1100 West Highway 6, Alvin, TX 77511.
City of Angleton | City Secretary's Office, 121 South Velasco Street, Angleton, TX 77515.
City of Brazoria | City Hall, 201 South Main Street, Brazoria, TX 77422.
City of Brookside Village | City Hall, 6243 Brookside Road, Brookside Village, TX 77581.
City of Clute | City Hall, 108 East Main Street, Clute, TX 77531.
City of Danbury | City Hall, 6102 5th Street, Danbury, TX 77534.
City of Freeport | City Hall, 200 West 2nd Street, Freeport, TX 77541.
City of Hillcrest Village | Hillcrest Village City Hall, 106 West Blackstone Lane, Alvin, TX 77511.
City of Iowa Colony | City Hall, 12003 County Road 65, Rosharon, TX 77583.
City of Lake Jackson | City Hall, 25 Oak Drive, Lake Jackson, TX 77566.
City of Liverpool | City Hall, 8901 Calhoun Street, Liverpool, TX 77577.
City of Manvel | City Hall, 20025 Highway 6, Manvel, TX 77578.
City of Oyster Creek | City Hall, 3210 FM 523, Oyster Creek, TX 77541.
City of Pearland | Engineering and Capital Projects Department Engineering Division, 3519 Liberty Drive, Pearland, TX 77581.
City of Richwood | City Hall, 1800 Brazosport Boulevard North, Richwood, TX 77531.
City of Sandy Point | Brazoria County West Annex Building, 451 North Velasco Street, Suite 210, Angleton, TX 77515.
City of Surfside Beach | City Hall, 1304 Monument Drive, Surfside Beach, TX 77541.
City of Sweeny | City Hall, 102 West Ashley Wilson Road, Sweeny, TX 77480.
City of West Columbia | City Hall, 512 East Brazos Avenue, West Columbia, TX 77486.
Town of Holiday Lakes | City Hall, 195 North Texas Avenue, Holiday Lakes, TX 77515.
Town of Quintana | Town Hall, 814 North Lamar Street, Quintana, TX 77541.
Unincorporated Areas of Brazoria County | Brazoria County West Annex Building, 451 North Velasco Street, Suite 210, Angleton, TX 77515.
Village of Bailey's Prairie | Bailey's Prairie Floodplain Administrator's Office, 201 South Velasco Street, Angleton, TX 77515.
Village of Bonney | Brazoria County West Annex Building, 451 North Velasco Street, Suite 210, Angleton, TX 77515.
Village of Jones Creek | City Hall, 7207 Stephen F. Austin Road, Jones Creek, TX 77541.
Grand County, Utah and Incorporated Areas
Project: 17-08-0649S Preliminary Date: May 29, 2018
Unincorporated Areas of Grand County | Grand County Courthouse, 125 East Center Street, Moab, UT 84532.

[FR Doc. 2018-24627 Filed 11-9-18; 8:45 am]

BILLING CODE 9110-12-P